DEPARTMENT OF COMMERCE

[I.D. 081004C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Dealer and Interview Family of Forms.

Form Number(s): None.

OMB Approval Number: 0648-0013.

Type of Request: Regular submission.

Burden Hours: 2,087.

Number of Respondents: 13,795.

Average Hours Per Response: 10 minutes each for shrimp interview, trip interview, mackerel dealers (quotas), mackerel gillnet dealers, mackerel gillnet vessels, snowy grouper/tilefish, wreckfish dealer, red snapper; 20 minutes for gulf grouper quota; 3 minutes for no-purchase report; 15 minutes for rock shrimp, golden crab dealers, coral dealers; and 5 minutes for vessel operation units.

Needs and Uses: This family of forms includes data collection activities for monitoring fishery quotas, routine collections of monthly statistic from seafood dealers, and interviews with fishermen to collect catch/effort and biological data.

Affected Public: Business or other for-profit organizations; and individuals or households.

Frequency: Bi-monthly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 9, 2004.
Gwellnar Banks,
Management Analyst, Office of the Chief Information Officer.

[FR Doc. 04-18701 Filed 8-13-04; 8:45 am]

BILLING CODE 3510-22-S